DEPARTMENT OF COMMERCE

National Oceanic and Atmospheric Administration

RIN 0648-XC693

New England Fishery Management Council; Public Meeting

AGENCY: National Marine Fisheries Service (NMFS), National Oceanic and Atmospheric Administration (NOAA), Commerce.

ACTION: Notice; public meeting.

SUMMARY: The New England Fishery Management Council's (Council) Groundfish Advisory Panel will meet to consider actions affecting New England fisheries in the exclusive economic zone (EEZ).

DATES: The meeting will be held on Monday, June 10, 2013 at 10 a.m.

ADDRESSES: Meeting address: The meeting will be held at the Providence Biltmore Hotel, 11 Dorrance Street, Providence, RI 02903; telephone: (401) 421-0700; fax: (401) 455-3040.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The items of discussion in the committee's agenda are as follows:

The Groundfish Advisory Panel will meet, primarily to develop recommendations on issues that will be discussed during the June 11, 2013 joint meeting of the Groundfish and Habitat Oversight Committees and the June 12, 2013 meeting of the Groundfish Oversight Committee. They will discuss issues related to Amendment 18 of the Northeast Multispecies FMP to include: Review Plan Development Team analyses to date; Develop recommendations on a purpose and need statement, and on potentially revising the goals and objectives. Also on the agenda will be items related to the alternatives development for the Omnibus Essential Fish Habitat Amendment 2 (OA2) which will include: Development of appropriate bridle length caps to be used on no-groundcable trawl gear within two potential adverse effects habitat management areas in the Great South Channel and on Georges Shoal. These gear modification options could be implemented via OA2 if approved by the Council. They will also develop a list of key groundfish gear characteristics to be part of a data collection program, which could be implemented via OA2 if approved by the Council. The information gathered via this data collection program would be used to develop gear modification options to minimize the adverse effects of fishing on EFH in future management actions. The panel will address other business as necessary.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Thomas A. Nies (see ADDRESSES) at least 5 days prior to the meeting date.

Authority: 16 U.S.C. 1801 et seq.

Dated: May 20, 2013.
Tracey L. Thompson,
Acting Deputy Director, Office of Sustainable Fisheries, National Marine Fisheries Service.

[FR Doc. 2013-12265 Filed 5-22-13; 8:45 am]

BILLING CODE 3510-22-P